DEPARTMENT OF STATE

[Public Notice 11920]

Certification Pursuant to Section 7041(a)(1) of the Department of State, Foreign Operations, and Related Programs Appropriations Act, 2021

ACTION: Determination.

SUMMARY: The State Department is publishing a Determination signed by the Secretary of State.

SUPPLEMENTARY INFORMATION: Antony J. Blinken, Secretary of State, signed the following “Certification Pursuant to Section 7041(a)(1) of the Department of State, Foreign Operations, and Related Programs Appropriations Act, 2021” on October 19, 2021. The State Department maintains the original document.

CERTIFICATION PURSUANT TO SECTION 7041(a)(1) OF THE DEPARTMENT OF STATE, FOREIGN OPERATIONS, AND RELATED PROGRAMS APPROPRIATIONS ACT, 2021 (Div. K, Pub. L. 116-260).

By virtue of the authority vested in me as Secretary of State pursuant to section 7041(a) (1) of the Department of State, Foreign Operations, and Related Programs Appropriations Act, 2021 (Div. K, Pub. L. 116-260), I hereby certify that the Government of Egypt is sustaining the strategic relationship with the United States and meeting its obligations under the 1979 Egypt-Israel Peace Treaty.

This determination shall be published in the Federal Register and along with the accompanying Memorandum of Justification, shall be reported to Congress.

Danika Walters,
Office Director, Office of Assistance Coordination, Bureau of Near Eastern Affairs, Department of State.

[FR Doc. 2023-04723 Filed 3-7-23; 8:45 am]

BILLING CODE 4710-31-P